DEPARTMENT OF TRANSPORTATION

National Highway Traffic Safety Administration

[Docket No. NHTSA-2019-0080; Notice 1]

ElectraMeccanica Vehicles Corp., Receipt of Petition for Decision of Inconsequential Noncompliance

AGENCY: National Highway Traffic Safety Administration (NHTSA), Department of Transportation (DOT).

ACTION: Receipt of petition.

SUMMARY: ElectraMeccanica Vehicles Corp., (EMV) has determined that certain model year (MY) 2018 ElectraMeccanica SOLO motorcycles do not fully comply with Federal Motor Vehicle Safety Standard (FMVSS) No. 120, Tire Selection and Rims and Motor Home/Recreation Vehicle Trailer Load Carrying Capacity Information for Motor Vehicles with a GVWR of More Than 4,536 Kilograms (10,000 Pounds). EMV filed a noncompliance report dated July 30, 2019. EMV subsequently petitioned NHTSA on August 12, 2019, for a decision that the subject noncompliance is inconsequential as it relates to motor vehicle safety. This document announces receipt of EMV's petition.

DATES: The closing date for comments on the petition is October 21, 2019.

ADDRESSES: Interested persons are invited to submit written data, views, and arguments on this petition. Comments must refer to the docket number and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, a notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

SUPPLEMENTARY INFORMATION:

I. Overview: EMV has determined that certain MY 2018 ElectraMeccanica SOLO motorcycles do not fully comply with paragraph S5.2(d) of FMVSS No. 120, Tire Selection and Rims and Motor Home/Recreation Vehicle Trailer Load Carrying Capacity Information for Motor Vehicles with a GVWR of More Than 4,536 Kilograms (10,000 Pounds) (49 CFR 571.120). EMV filed a noncompliance report dated July 30, 2019, pursuant to 49 CFR part 573, Defect and Noncompliance Responsibility and Reports. EMV subsequently petitioned NHTSA on August 12, 2019, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of EMV's petition is published under 49 U.S.C. 30118 and 30120 and does not represent any Agency decision or other exercises of judgment concerning the merits of the petition.

II. Vehicles Involved: Approximately 20 MY 2018 ElectraMeccanica SOLO motorcycles, manufactured between March 1, 2018, and June 28, 2019, are potentially involved.

III. Noncompliance: EMV explains that the noncompliance is that the subject vehicles are equipped with rims that are missing the manufacturer's name, trademark, or symbol marking as required by paragraph S5.2(d) of FMVSS No. 120.

IV. Rule Requirements: Paragraph S5.2(d) of FMVSS No. 120 includes the requirements relevant to this petition. Each rim or, at the option of the manufacturer in the case of a single-piece wheel, wheel disc shall be marked with the information listed in paragraphs (a) through (e) of this paragraph, in lettering not less than 3 millimeters high, impressed to a depth or, at the option of the manufacturer, embossed to a height of not less than 0.125 millimeters. The information listed in paragraphs (a) through (c) of this paragraph shall appear on the weather side. In the case of rims of multi-piece construction, the information listed in paragraphs (a) through (e) of this paragraph shall appear on the rim base and the information listed in paragraphs (b) and (d) of this paragraph shall also appear on each other part of the rim. (d) A designation that identifies the manufacturer of the rim by name, trademark, or symbol.

V. Summary of EMV's Petition: The following views and arguments presented in this section, V. Summary of EMV's Petition, are the views and arguments provided by EMV. They have not been evaluated by the Agency and do not reflect the views of the Agency.

EMV described the subject noncompliance and stated that the noncompliance is inconsequential as it relates to motor vehicle safety.

EMV submitted the following views and arguments in support of the petition:

1. The absence of the manufacturer name, trademark, or symbol does not have any effect on the operation, performance, or safety of the affected vehicles. For example, the manufacturer name, trademark, or symbol is not required to be marked on rims for use on passenger cars in accordance with FMVSS No. 110. The marking is helpful for traceability in the event that a future wheel defect was to be discovered. However, as EMV has only the single source for supply of the pertinent rim style, the absence of the marking does not inhibit traceability of the affected rims. It is noted that the other markings present such as the date of manufacture, heat treatment lot, and all other markings required as per FMVSS No. 120, paragraph S5.2, are present and provide for sufficient traceability of any given rim.

EMV is not aware of any crashes, injuries, or customer complaints associated with the absence of the rim manufacturer name, trademark, or symbol marking.

2. EMV states that granting their petition for inconsequential noncompliance would be consistent with the NHTSA's past decisions pertaining to rim markings required by FMVSS No. 120 and FMVSS No. 110 (for vehicles other than passenger cars). For example, EMV says NHTSA has granted petitions for inconsequential noncompliance related to the incorrect marking of the rim size and absence of required rim markings.

3. All affected MY 2018 and MY 2019 vehicles that are under EMV's control in, or destined for, the United States have been or are in the process of being brought into compliance with the FMVSS No. 120 manufacturer marking requirements. EMV has additionally ensured that all required markings will be present on rims used for future production.

EMV concluded that the subject noncompliance is inconsequential as it relates to motor vehicle safety and that its petition, to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that EMV no longer controlled at the time it determined that the noncompliance existed. However, any decision on this petition does not relieve vehicle distributors and dealers of the prohibitions on the sale, offer for sale, or introduction or delivery for introduction into interstate commerce of the noncompliant vehicles under their control after EMV notified them that the subject noncompliance existed.

Authority: 49 U.S.C. 30118, 30120: delegations of authority at 49 CFR 1.95 and 501.8.

Otto G. Matheke III,
Director, Office of Vehicle Safety Compliance.

[FR Doc. 2019-20374 Filed 9-19-19; 8:45 am]

BILLING CODE 4910-59-P